DEPARTMENT OF TRANSPORTATION

Federal Aviation Administration

14 CFR Part 39

[Docket No. 2002-CE-50-AD; Amendment 39-13078; AD 2003-05-02]

RIN 2120-AA64

Airworthiness Directives; Lindstrand Balloons Ltd Fuel Hoses

AGENCY: Federal Aviation Administration, DOT.

ACTION: Final rule.

SUMMARY: This amendment adopts a new airworthiness directive (AD) that applies to all aircraft (specifically balloons) that incorporate certain Lindstrand Balloons Ltd (Lindstrand) fuel hoses. This AD requires you to inspect for certain batches of installed fuel hoses and replace any of these fuel hoses. This AD is the result of mandatory continuing airworthiness information (MCAI) issued by the airworthiness authority for the United Kingdom. The actions specified by this AD are intended to detect and replace defective fuel hoses before they result in propane fuel leaks. Such propane fuel leaks could lead to a propane fuel fire.

DATES: This AD becomes effective on May 2, 2003.

The Director of the Federal Register approved the incorporation by reference of certain publications listed in the regulations as of May 2, 2003.

ADDRESSES: You may get the service information referenced in this AD from Lindstrand Balloons Ltd, Maesbury Road, Oswestry, Shropshire SY 10 8ZZ, England; telephone: +44 (0) 1691-671717; facsimile: +44 (0) 1691-671122. You may view this information at the Federal Aviation Administration (FAA), Central Region, Office of the Regional Counsel, Attention: Rules Docket No. 2002-CE-50-AD, 901 Locust, Room 506, Kansas City, Missouri 64106; or at the Office of the Federal Register, 800 North Capitol Street, NW., suite 700, Washington, DC.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Discussion

What Events Have Caused This AD?

The Civil Aviation Authority (CAA), which is the airworthiness authority for the United Kingdom, recently notified FAA that an unsafe condition may exist on aircraft (specifically balloons) that incorporate certain Lindstrand fuel hoses. The CAA reports six incidents of 3/8-inch bore fuel supply hoses, batch identification number FHL 38381 or FHL 40579, failing in service.

The typical failure observed is of liquid fuel escaping at any position along the length of the hose and through the pinpricking on the outer surface. The leakage observed varies from small bubbles, when leak detection fluid is used on the surface of the hose, to visible jets of liquid propane.

What Is the Potential Impact if FAA Took No Action?

Such propane fuel leaks could lead to a propane fuel fire.

Has FAA Taken Any Action to This Point?

We issued a proposal to amend part 39 of the Federal Aviation Regulations (14 CFR part 39) to include an AD that would apply to all aircraft (specifically balloons) that incorporate certain Lindstrand fuel hoses. This proposal was published in the Federal Register as a notice of proposed rulemaking (NPRM) on December 4, 2002 (67 FR 72119). The NPRM proposed to require you to inspect for certain batches of installed fuel hoses and replace any of these fuel hoses.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 204 aircraft (specifically balloons) in the U.S. registry.

What Is the Cost Impact of This AD on Owners/Operators of the Affected Airplanes?

We estimate the following costs to accomplish the inspection:

Labor cost | Parts cost | Total cost per airplane | Total cost on U.S. operators
1 workhour × $60 per hour = $60 | Not applicable | $60 | $60 × 204 = $12,240

We estimate the following costs to accomplish any necessary replacements that would be required based on the results of the inspection. We have no way of determining the number of aircraft that may need such replacement:

Labor cost | Parts cost | Total cost per hose
1 workhour × $60 per hour = $60 per hose | Replacement hoses provided by manufacturer | $60

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-05-02 Lindstrand Balloons Ltd: Amendment 39-13078; Docket No. 2002-CE-50-AD.

(a) What aircraft are affected by this AD? This AD affects any aircraft (specifically balloons), certificated in any category, that incorporate Lindstrand 3/8-inch bore hoses from either hose batches FHL 38381 or FHL 40579.

(b) Who must comply with this AD? Anyone who wishes to operate any of the aircraft identified in paragraph (a) of this AD must comply with this AD.

(c) What problem does this AD address? The actions specified by this AD are intended to detect and replace defective fuel hoses before they result in propane fuel leaks. Such propane fuel leaks could lead to a propane fuel fire.

(d) What actions must I accomplish to address this problem? To address this problem, you must accomplish the following:

Actions | Compliance | Procedures
(1) Inspect all 3/8-inch bore hoses used within the aircraft, including burner supply hoses, basket manifolds, and refueling hoses to determine if the hose is from either defective hose batch FHL 38381 or FHL 40579. | Within 5 hours time-in-service after May 2, 2003 (the effective date of this AD) | In accordance with Lindstrand Balloons Ltd Service Bulletin No. 7, Issue 1, dated July 11, 2002
(2) If any hose from the defective hose batch is found during the inspection: (i) Obtain a replacement scheme from the manufacturer through the FAA at the address specified in paragraph (f) of this AD. (ii) Incorporate this replacement scheme. | Prior to further flight after the inspection in which the hose from the defective hose batch is found | Obtain this replacement scheme through the FAA at the address specified in paragraph (f) of this AD.
(3) Do not install Lindstrand 3/8-inch bore fuel hoses from either hose batch FHL 38381 or FHL 40579, unless replaced per paragraphs (d)(2)(i) and (d)(2)(ii) of this AD. | As of May 2, 2003 (the effective date) of this AD | Not applicable.

(e) Can I comply with this AD in any other way? You may use an alternative method of compliance or adjust the compliance time if:

(1) Your alternative method of compliance provides an equivalent level of safety; and

(2) The Manager, Standards Office, Small Airplane Directorate, approves your alternative. Submit your request through an FAA Principal Maintenance Inspector, who may add comments and then send it to the Manager, Standards Office.

Note 1: This AD applies to each aircraft (specifically balloons) with a Lindstrand Balloons Ltd 3/8-inch fuel hose identified in paragraph (a) of this AD, regardless of whether it has been modified, altered, or repaired in the area subject to the requirements of this AD. For aircraft (specifically balloons) that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Chudy, Aerospace Engineer, FAA, Small Airplane Directorate, 901 Locust, Room 301, Kansas City, Missouri 64106; telephone: (816) 329-4140; facsimile: (816) 329-4090.

(h) Are any service bulletins incorporated into this AD by reference? Actions required by this AD must be done in accordance with Lindstrand Balloons Ltd Service Bulletin No. 7, Issue 1, dated July 11, 2002. The Director of the Federal Register approved this incorporation by reference under 5 U.S.C. 552(a) and 1 CFR part 51. You may get copies from Lindstrand Balloons Ltd, Maesbury Road, Oswestry, Shropshire SY 10 8ZZ, England; telephone: +44 (0) 1691-671717; facsimile: +44 (0) 1691-671122. You may view copies at the FAA, Central Region, Office of the Regional Counsel, 901 Locust, Room 506, Kansas City, Missouri, or at the Office of the Federal Register, 800 North Capitol Street, NW., suite 700, Washington, DC.

Note 2: The subject of this AD is addressed in British AD Number 002-07-2002, dated July 12, 2002.

(i) When does this amendment become effective? This amendment becomes effective on May 2, 2003.

Issued in Kansas City, Missouri, on March 3, 2003.
Michael Gallagher,
Manager, Small Airplane Directorate, Aircraft Certification Service.

[FR Doc. 03-5392 Filed 3-10-03; 8:45 am]

BILLING CODE 4910-13-P